ENVIRONMENTAL PROTECTION AGENCY

40 CFR Part 52

[EPA-R06-OAR-2006-0867; FRL-8566-5]

Approval and Promulgation of Air Quality Implementation Plans; Texas; Control of Air Pollution by Permits for New Construction or Modification

AGENCY: Environmental Protection Agency (EPA).

ACTION: Proposed rule.

SUMMARY: EPA is proposing to approve a revision to the Texas State Implementation Plan (SIP), submitted by the Texas Commission on Environmental Quality (TCEQ) on October 9, 2006. The SIP revision EPA is proposing to approve would require decreased newspaper notice for proposed air quality Standard Permits with statewide applicability to the following metropolitan areas: Austin, Dallas, Houston, and any other regional newspapers the TCEQ Executive Director designates on a case-by-case basis. TCEQ will publish notice of a proposed air quality Standard Permit in the Texas Register and will issue a press release. In addition, TCEQ may also use electronic means to inform state and local officials of a proposed air quality Standard Permit. EPA proposes to approve these revisions pursuant to section 110 of the Federal Clean Air Act (Act).

DATES: Comments must be received on or before June 16, 2008.

ADDRESSES: Submit your comments, identified by Docket ID No. EPA-R06-OAR-2006-0867, by one of the following methods:

• Federal eRulemaking Portal: http://www.regulations.gov. Follow the on-line instructions for submitting comments.

• U.S. EPA Region 6 “Contact Us” Web site: http://epa.gov/region6/r6coment.htm. Please click on “6PD” (Multimedia) and select “Air” before submitting comments.

• E-mail: Mr. Stanley M. Spruiell at spruiell.stanley@epa.gov.

• Fax: Mr. Stanley M. Spruiell, Air Permits Section (6PD-R), at fax number 214-665-7263.

• Mail: Stanley M. Spruiell, Air Permits Section (6PD-R), Environmental Protection Agency, 1445 Ross Avenue, Suite 1200, Dallas, Texas 75202-2733.

• Hand or Courier Delivery: Stanley M. Spruiell, Air Permits Section (6PD-R), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2006-0867. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment: Texas Commission on Environmental Quality, Office of Air Quality, 12124 Park 35 Circle, Austin, Texas 78753.

FOR FURTHER INFORMATION CONTACT: Mr. Stanley M. Spruiell, Air Permits Section (6PD-R), Environmental Protection Agency, Region 6, 1445 Ross Avenue, Suite 700, Dallas, Texas 75202-2733, telephone (214) 665-7212; fax number 214-665-7263; e-mail address spruiell.stanley@epa.gov.

SUPPLEMENTARY INFORMATION: Throughout this document wherever “we,” “us,” or “our” is used, we mean the EPA.

Outline

I. What Action is EPA Taking?

II. What is the Background for this Action?

III. What is EPA's Evaluation of the Revised Regulations that Texas Submitted?

IV. Proposed Action

V. Statutory and Executive Order Reviews

I. What Action Is EPA Taking?

EPA is proposing approval on a revision to 30 Texas Administrative Code (TAC), Chapter 116 (Control of Air Pollution by Permits for New Construction or Modification), Subchapter F (Standard Permits), section 116.603 (Public Participation in Issuance of Standard Permits). TCEQ submitted the proposed SIP revision to EPA on October 9, 2006 for approval.

The proposed SIP revision requires that any proposed air quality Standard Permit with statewide applicability be published in the daily newspaper of largest general circulation within each of the following metropolitan areas: Austin, Dallas, Houston, and any other regional newspaper designated by the Executive Director on a case-by-case basis. The proposed revision also requires TCEQ to publish notice of a proposed Standard Permit in the Texas Register and issue a press release. However, the proposed revision changes the current EPA SIP-approved rule as it no longer requires TCEQ to issue newspaper notices for proposed Standard Permits with statewide applicability in the following metropolitan areas: Amarillo, Corpus Christi, El Paso, the Lower Rio Grande Valley, Lubbock, the Permian Basin, or Tyler. EPA proposes to approve the revision as meeting the federal requirements in 40 CFR 51.161, Public Availability of Information that requires “* * * [n]otice by prominent advertisement in the area affected * * *.”

II. What Is the Background for This Action?

On November 14, 2003 (68 FR 64543), EPA approved provisions under 30 TAC Chapter 116, Subchapter F, Standard Permits. These provisions include the procedures the TCEQ follows when it issues or revises a Standard Permit. A Standard Permit is adopted under Chapter 116, Subchapter F, and provides a streamlined mechanism for approving the construction of certain sources within categories that contain numerous similar sources. The November 14, 2003, action describes our basis for approving the provisions for Standard Permits and describes how these rules meet EPA's requirements for new and modified sources.

The SIP-approved provisions for Standard Permits include section 116.603 (Public Participation in Issuance of Standard Permits). This SIP-approved section requires that the TCEQ publish notice of a proposed air quality Standard Permit in a daily or weekly newspaper of general circulation in the area affected by the activity that is the subject of the proposed Standard Permit. If the proposed Standard Permit will have statewide applicability, the SIP-approved rule requires TCEQ to publish notice in the daily newspaper of the largest general circulation within each of the following metropolitan areas: Amarillo, Austin, Corpus Christi, Dallas, El Paso, Houston, Lower Rio Grande Valley, Lubbock, the Permian Basin, San Antonio, and Tyler. The SIP-approved rule also requires that TCEQ publish notice in the Texas Register, an official State publication that is available throughout the State of Texas.

On October 9, 2006, TCEQ submitted revisions to section 116.603. The State's revised rule requires newspaper notice for proposed Standard Permits with statewide applicability in only three of the eleven original metropolitan areas: Austin, Dallas, Houston, and any other regional newspaper designated by the Executive Director on a case-by-case basis. The State's rule no longer requires newspaper notice for each proposed Standard Permit to be published in Amarillo, Corpus Christi, El Paso, the Lower Rio Grande Valley, Lubbock, the Permian Basin, San Antonio, or Tyler. However, TCEQ will continue to publish public notice in the Texas Register and issue a press release.

III. What Is EPA's Evaluation of the Revised Regulations That Texas Submitted?

EPA is aware that states' minor new source review programs vary widely from state to state. EPA has also approved various minor new source public notice and participation rules based on the environmental significance of the permit action. 68 FR 2894, 2895 (Jan. 22, 2003). Publication through newspaper notice for proposed Standard Permits with statewide applicability will be published in fewer metropolitan areas. However, notice will continue to be published in the Texas Register, an official, weekly publication that serves as the journal of state agency rulemaking. The Texas Register can be accessed through the Texas Secretary of State's website as well as other means.¹ EPA believes this is sufficient to ensure public notice of Standard Permits with statewide applicability.

¹ Any person can access the Texas Register at http://www.sos.state.tx.us/texreg/index.shtml. Under this website, any person can access the current issue of the Texas Register and the back issues of the Texas Register beginning with the year 1991.

The revised rule provides that for a proposed Standard Permit with statewide applicability, to publish public notice in the daily newspaper of largest general circulation within the metropolitan areas of Austin, Dallas, and Houston, and any other regional newspapers designated by the executive director on a case-by-case basis. The Commission will also publish notice in the Texas Register and issue a press release. The TCEQ may use electronic means to transmit notice to selected state and local officials. Although EPA has considered whether TCEQ should develop replicable procedures for determining when to publish notice in other regional newspapers on a case-by-case basis, EPA believes that the baseline rule is sufficient provide adequate public notice to the entire State of Texas. The baseline notice includes:

• Publication in the daily newspaper of largest general circulation within the metropolitan areas of Austin, Dallas, and Houston;

• Publication of notice in the Texas Register;

• Issuance of a press release, and

• TCEQ may use electronic means to transmit notice to selected state and local officials.

EPA believes that these requirements are sufficient to ensure adequate notice to the State of Texas. Accordingly, the publication of notice in other regional newspapers on a case-by-case basis will be in addition to the above described baseline requirements.

The public may also access Texas' proposed Standard Permits on the TCEQ's Web site. The TCEQ posts its proposed Standard Permits on its Web site at http://www.tceq.state.tx.us/permitting/air/nav/standard.html. This Web site includes the public notice of proposed Standard Permits during the comment period, the information on TCEQ's final action on Standard Permits (including TCEQ's response to the comments received from the public, and the text of all existing Standard Permits.

A more detailed discussion of Texas' public notice procedures for proposed Standard Permits is in the Technical Support Document which is in the docket for this proposed action.

For the reasons discussed above and in the Technical Support Document, EPA believes that this revision to section 116.603 continues to ensure that the entire State of Texas is provided with adequate public notice of any proposed Standard Permit with statewide applicability and ensures that citizens in Texas are afforded the opportunity to comment on the proposed Standard Permit.

Section 110(l) of the CAA states that EPA cannot approve a SIP revision if the revision would interfere with any applicable requirements concerning attainment and reasonable further progress towards attainment of the National Ambient Air Quality Standards (NAAQS) or any other applicable requirements of the Act. Based upon our review of the Texas SIP submittals discussed in this notice and the Technical Support Document, we believe indicate that the revisions will not interfere with any applicable requirements concerning attainment and reasonable further progress towards attainment of the NAAQS or any other applicable requirements of the Act.

IV. Proposed Action

For the reasons discussed above, EPA is proposing to approve and requests comments on the changes to 30 TAC 116.603 (Public Participation in Issuance of Standard Permits) submitted October 9, 2006, as a revision to the Texas SIP. EPA will evaluate all significant comments in finalizing its decision.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et. seq.);

• Is certified as not having a significant economic impact on a substantial number of small entities under the Regulatory Flexibility Act (5 U.S.C. 601 et. seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon Monoxide, Hydrocarbons, Intergovernmental relations, Lead, Nitrogen oxides, Ozone, Particulate matter, Reporting and recordkeeping requirements, Sulfur oxides, Volatile organic compounds.

Dated: May 5, 2008.
Lawrence E. Starfield,
Acting Regional Administrator, Region 6.

Authority: 42 U.S.C. 7401 et seq.

[FR Doc. E8-10924 Filed 5-14-08; 8:45 am]

BILLING CODE 6560-50-P